DEPARTMENT OF COMMERCE

International Trade Administration

[A-427-801, A-428-801, A-475-801, A-588-804, A-401-801, A-412-801]

Antifriction Bearings (Other Than Tapered Roller Bearings) and Parts Thereof From France, Germany, Italy, Japan, Sweden, and the United Kingdom; Final Results of Antidumping Duty Administrative Reviews and Revocation of Orders in Part

AGENCY: Import Administration, International Trade Administration, Department of Commerce.

ACTION: Notice of Final Results of Antidumping Duty Administrative Reviews and Revocation of Orders in Part.

SUMMARY: On February 5, 2001, the Department of Commerce published the preliminary results of the administrative reviews of the antidumping duty orders on antifriction bearings (other than tapered roller bearings) and parts thereof from France, Germany, Italy, Japan, Sweden, and the United Kingdom. The merchandise covered by these orders are ball bearings and parts thereof, cylindrical roller bearings and parts thereof, and spherical plain bearings and parts thereof. The reviews cover 56 manufacturers/exporters. The periods of review are May 1, 1999, through April 30, 2000, for ball bearings and May 1, 1999, through December 31, 1999, for cylindrical roller bearings and spherical plain bearings.

Based on our analysis of the comments received, we have made changes, including corrections of certain programming and other clerical errors, in the margin calculations. Therefore, the final results differ from the preliminary results. The final weighted-average dumping margins for the reviewed firms are listed below in the section entitled “Final Results of the Reviews.”

EFFECTIVE DATE: July 12, 2001.

FOR FURTHER INFORMATION: Please contact the appropriate case analysts for the various respondent firms as listed below, at Import Administration, International Trade Administration, U.S. Department of Commerce, Washington, D.C. 20230; telephone: (202) 482-4733.

France

Edythe Artman (SNFA), George Callen (SNR), Lyn Johnson (Alfateam—Belgium, Alfa-Team—Germany, Bearing Discount—Germany, Motion Bearings—Singapore, Yoo Shin—South Korea, Rodamientos Rovi—Venezuela, Rovi-Valencia—Venezuela, Rovi-Maracay—Venezuela, RIRSA—Mexico, DCD—Northern Ireland, Euro-Latin-United Kingdom (collectively, Resellers)), David Dirstine, or Richard Rimlinger.

Germany

George Callen (Cerobear), Hermes Pinilla (INA), Thomas Schauer (Torrington Nadellager), Lyn Johnson (Resellers), David Dirstine, or Richard Rimlinger.

Italy

Lyn Johnson (Resellers) or David Dirstine.

Japan

Minoo Hatten (NSK), Thomas Schauer (NTN), Lyn Johnson (Koyo), David Dirstine, or Richard Rimlinger.

Sweden

Lyn Johnson (Resellers) or David Dirstine.

United Kingdom

Thomas Schauer (Timken, RHP/NSK), Dimitry Vladimirov (SNFA), David Dirstine, or Richard Rimlinger.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR Part 351 (2000).

Background

On February 5, 2001, the Department published the preliminary results of the administrative reviews of the antidumping duty orders on antifriction bearings (other than tapered roller bearings) and parts thereof from France, Germany, Italy, Japan, Sweden, and the United Kingdom (66 FR 8931). The reviews cover 56 manufacturers/exporters. The periods of review (POR) are May 1, 1999, through April 30, 2000, for ball bearings and May 1, 1999, through December 31, 1999, for cylindrical roller bearings and spherical plain bearings. We invited interested parties to comment on our preliminary results. At the request of certain parties, we held hearings for Germany-specific issues and reseller issues for France, Germany, Sweden and Italy on March 22, 2001, and for Japan-specific issues on March 26, 2001. The Department has conducted these administrative reviews in accordance with section 751 of the Act.

Scope of the Orders

The products covered by these orders, antifriction bearings (other than tapered roller bearings), mounted or unmounted, and parts thereof, constitute the following classes or kinds of merchandise:

1. Ball Bearings and Parts Thereof: These products include all antifriction bearings that employ balls as the rolling element. Imports of these products are classified under the following categories: antifriction balls, ball bearings (BBs) with integral shafts, BBs (including radial BBs) and parts thereof, and housed or mounted BB units and parts thereof.

Imports of these products are classified under the following Harmonized Tariff Schedules of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

2. Cylindrical Roller Bearings, Mounted or Unmounted, and Parts Thereof: These products include all antifriction bearings that employ cylindrical rollers as the rolling element. Imports of these products are classified under the following categories: antifriction rollers, all cylindrical roller bearings (including split cylindrical roller bearings) (CRBs) and parts thereof, and housed or mounted CRB units and parts thereof.

Imports of these products are classified under the following HTSUS subheadings: 3926.90.45, 4016.93.00, 4016.93.10, 4016.93.50, 6909.19.5010, 8431.20.00, 8431.39.0010, 8482.40.00, 8482.50.00, 8482.80.00, 8482.91.00, 8482.99.25, 8482.99.35, 8482.99.6530, 8482.99.6560, 8482.99.70, 8483.20.40, 8483.20.80, 8483.50.8040, 8483.90.20, 8483.90.30, 8483.90.70, 8708.50.50, 8708.60.50, 8708.93.5000, 8708.99.4000, 8708.99.4960, 8708.99.50, 8708.99.8080, 8803.10.00, 8803.20.00, 8803.30.00, 8803.90.30, and 8803.90.90.

3. Spherical Plain Bearings, Mounted and Unmounted, and Parts Thereof: These products include all spherical plain bearings (SPBs) that employ a spherically shaped sliding element and include spherical plain rod ends.

Imports of these products are classified under the following HTSUS subheadings: 3926.90.45, 4016.93.00, 4016.93.10, 4016.93.50, 6909.50.10, 8483.30.80, 8483.90.30, 8485.90.00, 8708.93.5000, 8708.99.50, 8803.10.00, 8803.20.00, 8803.30.00, 8803.90.30, and 8803.90.90.

The HTSUS item numbers are provided for convenience and customs purposes. They are not determinative of the products subject to the orders. The written descriptions remain dispositive.

Size or precision grade of a bearing does not influence whether the bearing is covered by one of the orders. These orders cover all the subject bearings and parts thereof (inner race, outer race, cage, rollers, balls, seals, shields, etc.) outlined above with certain limitations. With regard to finished parts, all such parts are included in the scope of these orders. For unfinished parts, such parts are included if (1) they have been heat-treated, or (2) heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scopes of these orders.

For a listing of scope determinations which pertain to the orders, see the “Scope Determinations Memorandum” (Scope Memo) from the Antifriction Bearings Team to Laurie Parkhill, dated May 11, 2001. The Scope Memo is on file in the Central Records Unit (CRU), Main Commerce Building, Room B-099.

Analysis of Comments Received

All issues raised in the case and rebuttal briefs by parties to these concurrent administrative reviews of the orders on antifriction bearings are addressed in the “Issues and Decision Memorandum” (Decision Memo) from Richard W. Moreland, Deputy Assistant Secretary, to Faryar Shirzad, Assistant Secretary, dated June 5, 2001, which is hereby adopted by this notice. A list of the issues which parties have raised and to which we have responded, all of which are in the Decision Memo, is attached to this notice as an Appendix. This Decision Memo, which is a public document, is on file in the CRU, Main Commerce Building, Room B-099, and is accessible on the Web at ia.ita.doc.gov. The paper copy and electronic version of the Decision Memo are identical in content.

Sales Below Cost in the Home Market

The Department disregarded home-market sales that failed the cost-of-production test for the following firms and classes or kinds of merchandise for these final results of reviews:

Country | Company | Subject merchandise
France | SNR | BBs
Germany | INA | CRBs
Japan | Koyo | BBs, CRBs
| NSK | BBs, CRBs
| NTN | BBs, CRBs, SPBs
United Kingdom | NSK-RHP | BBs

Partial Revocation of the Orders

In the preliminary results we stated our intent to revoke the order covering CRBs from France as it pertains to the sales of these bearings by SNFA France (66 FR at 8934). However, the order on CRBs from France was revoked on January 1, 2000, pursuant to a sunset review decision of the International Trade Commission under section 751(c) of the Act (see Revocation of Antidumping Duty Orders on Certain Bearings From Hungary, Japan, Romania, Sweden, France, Germany, Italy, and the United Kingdom, 65 FR 46267 (July 11, 2000) (Sunset Revocation Notice)). Therefore, there is no need for us to rule on this matter in the context of this particular review.

In addition, also in our preliminary results, we stated our intent not to revoke the order covering BBs from the United Kingdom as it pertained to sales of these bearings by SNFA U.K. However, due to a recalculation of SNFA U.K.'s margin as the result of clerical errors in our preliminary calculations (see Post-Preliminary Disclosure Memo from Laurie Parkhill to Richard Moreland, dated May 4, 2001), the final margin for SNFA U.K. is zero, and we are revoking this order in part with respect to SNFA U.K. The revocation in part applies to subject merchandise entered, or withdrawn from warehouse, for consumption on or after May 1, 2000.

Changes Since the Preliminary Results

Based on our analysis of comments received, we have made revisions that have changed the results for certain firms. We have corrected programming and clerical errors in the preliminary results, where applicable. Any alleged programming or clerical errors about which we or the parties do not agree are discussed in the relevant sections of the Decision Memo, which is accessible on the Web at ia.ita.doc.gov and is on file in the CRU, Room B-099.

Final Results of Reviews

We determine that the following percentage weighted-average margins exist for the period May 1, 1999, through April 30, 2000 (for BBs), and for the period May 1, 1999, through December 31, 1999 (for CRBs and SPBs):

Company | Ball | Cylindrical | Spherical plain
France:
SNFA | (³) | 0.00 |
SNR | 1.64 | (³) |
Alfateam | 66.18 | (³) |
Alfa-Team | 66.18 | (³) |
Bearing Discount | (²) | (³) |
Motion Bearings | 66.18 | (³) |
Yoo Shin | 66.18 | (³) |
Rodamientos Rovi | (²) | (³) |
Rovi-Valencia | (²) | (³) |
Rovi-Maracay | (²) | (²) | (³)
RIRSA | (²) | (³) |
DCD | 66.18 | (³) |
Euro-Latin | (²) | (³) |
Germany:
Cerobear | 0.03 | 0.00 | (³)
INA | (¹) | 2.96 | (¹)
Torrington Nadellager | 1.22 | 61.60 | (³)
Alfateam | 70.41 | 61.60 | (³)
Alfa-Team | 70.41 | 61.60 | (³)
Bearing Discount | (²) | (²) | (³)
Motion Bearings | 70.41 | 61.60 | (³)
Yoo Shin | 70.41 | 61.60 | (³)
Rodamientos Rovi | (²) | (²) | (³)
Rovi-Valencia | (²) | (²) | (³)
Rovi-Maracay | (²) | (²) | (³)
RIRSA | (²) | (²) | (³)
DCD | 70.41 | 61.60 | (³)
Euro-Latin | (²) | (²) | (³)
Italy:
Alfateam | 68.29 |  |
Alfa-Team | 68.29 |  |
Bearing Discount | (²) |  |
Motion Bearings | 68.29 |  |
Yoo Shin | 68.29 |  |
Rodamientos Rovi | (²) |  |
Rovi-Valencia | (²) |  |
Rovi-Maracay | (²) |  |
RIRSA | (²) |  |
DCD | 68.29 |  |
Euro-Latin | (²) |  |
Japan:
Koyo | 10.10 | 5.28 | 0.00
NSK Ltd. | 4.22 | 5.74 | (³)
NTN | 9.16 | 16.26 | 3.60
Sapporo | 73.55 | (³) | (³)
Sweden:
Alfateam | 13.55 |  |
Alfa-Team | 13.55 |  |
Bearing Discount | (²) |  |
Motion Bearings | 13.55 |  |
Yoo Shin | 13.55 |  |
Rodamientos Rovi | (²) |  |
Rovi-Valencia | (²) |  |
Rovi-Maracay | (²) |  |
RIRSA | (²) |  |
DCD | 13.55 |  |
Euro-Latin | (²) |  |
United Kingdom:
NSK/RHP | 15.65 |  |
SNFA | 0.00 |  |
Timken | 1.11 |  |
¹ No shipments or sales subject to this review. The deposit rate remains unchanged from the last relevant segment of the proceeding in which the firm had shipments/sales.
² No shipments or sales subject to this review. The firm has no individual rate from any segment of this proceeding.
³ No request for review under section 751(a) of the Act.

Resellers

With respect to Bearing Discount International, Euro-Latin Export Services Limited, Representaciones Industriales Rodriquez, S.A. de C.V., Rodamientos Rovi C.A., Rovi-Maracay, and Rovi-Valencia, we have determined that these respondents had no shipments during the POR. We have based our determination on letters from these respondents indicating that they had no shipments and on our examination of the Customs Service database for imports of entered merchandise involving these respondents. Based upon the record and our methodology of reviewing Customs Service information, we have determined that the respondents at issue had no shipments during the POR, and we have not established margins for use as future cash-deposit rates.

As explained in the accompanying Decision Memorandum, however, notwithstanding their letters reporting that they had made no shipments, it is impossible to establish with certainty from Customs Service data the accuracy of their statements. Therefore, we will instruct the Customs Service at the time of liquidation to review all documentation for suspended entries of subject merchandise. If the Customs Service finds that any of the six “no-shipment” respondents in fact had shipments of subject merchandise during the POR, we will instruct the Customs Service to apply a facts-available rate to such respondents based on the adverse facts-available rate we have determined for the applicable country of origin (France, Germany, Italy, or Sweden) and subject merchandise. See Preliminary Results, 66 FR 8933, for a description of our determination of these rates.

Assessment Rates

The Department shall determine, and the Customs Service shall assess, antidumping duties on all appropriate entries. In accordance with 19 CFR 351.212(b)(1), we have calculated, whenever possible, an exporter/importer-specific assessment rate or value for subject merchandise.

a. Export Price

With respect to export-price (EP) sales for these final results, we divided the total dumping margins (calculated as the difference between normal value (NV) and EP) for each importer/customer by the total number of units sold to that importer/customer. We will direct the Customs Service to assess the resulting per-unit dollar amount against each unit of merchandise on each of that importer's/customer's entries under the relevant order during the review period.

b. Constructed Export Price

For constructed-export-price (CEP) sales (sampled and non-sampled), we divided the total dumping margins for the reviewed sales by the total entered value of those reviewed sales for each importer. When an affiliated party acts as an importer for export-price sales we have included the applicable export-price sales in the assessment-rate calculation. We will direct the Customs Service to assess the resulting percentage margin against the entered customs values for the subject merchandise on each of that importer's entries under the relevant order during the review period (see 19 CFR 351.212(a)).

Cash-Deposit Requirements

To calculate the cash-deposit rate for each respondent (i.e., each exporter and/or manufacturer included in these reviews), we divided the total dumping margins for each company by the total net value for that company's sales of merchandise during the review period subject to each order.

In order to derive a single deposit rate for each order for each respondent, we weight-averaged the EP and CEP deposit rates (using the export price and CEP, respectively, as the weighting factors). To accomplish this when we sampled CEP sales, we first calculated the total dumping margins for all CEP sales during the review period by multiplying the sample CEP margins by the ratio of total days in the review period to days in the sample weeks. We then calculated a total net value for all CEP sales during the review period by multiplying the sample CEP total net value by the same ratio. We then divided the combined total dumping margins for both export-price and CEP sales by the combined total value for both export-price and CEP sales to obtain the deposit rate.

We will direct the Customs Service to collect the resulting percentage deposit rate against the entered customs value of each of the exporter's entries of subject merchandise entered, or withdrawn from warehouse, for consumption on or after the date of publication of this notice. If an order has been revoked in full or in part, cash deposits will not be required on entries made after the effective date of the revocation, identified in the Revocation section above.

Entries of parts incorporated into finished bearings before sales to an unaffiliated customer in the United States will receive the respondent's deposit rate applicable to the order.

Furthermore, the following deposit requirements will be effective upon publication of this notice of final results of administrative reviews for all shipments of antifriction bearings entered, or withdrawn from warehouse, for consumption on or after the date of publication, as provided by section 751(a)(1) of the Act unless the order has been revoked in full (see Sunset Revocation Notice) or in part (see Revocation section above): (1) the cash-deposit rates for the reviewed companies will be the rates shown above except that, for firms whose weighted-average margins are less than 0.5 percent and therefore de minimis, the Department shall not require a deposit of estimated antidumping duties; (2) for previously reviewed or investigated companies not listed above, the cash-deposit rate will continue to be the company-specific rate published for the most recent period; (3) if the exporter is not a firm covered in this review, a prior review, or the original less-than-fair-value (LTFV) investigation, but the manufacturer is, the cash-deposit rate will be the rate established for the most recent period for the manufacturer of the merchandise; and (4) the cash-deposit rate for all other manufacturers or exporters will continue to be the “All Others” rate for the relevant order made effective by the final results of review published on July 26, 1993 (see Antifriction Bearings (Other Than Tapered Roller Bearings) and Parts Thereof From France, et al: Final Results of Antidumping Duty Administrative Reviews and Revocation in Part of an Antidumping Duty Order, 58 FR 39729 (July 26, 1993), and, for BBs from Italy, see Antifriction Bearings (Other Than Tapered Roller Bearings) and Parts Thereof From France, et al: Final Results of Antidumping Duty Administrative Reviews, Partial Termination of Administrative Reviews, and Revocation in Part of Antidumping Duty Orders, 61 FR 66472 (December 17, 1996)). These rates are the “All Others” rates from the relevant LTFV investigation.

These deposit requirements shall remain in effect until publication of the final results of the next administrative reviews.

This notice serves as a reminder to importers of their responsibility under 19 CFR 351.402(f) to file a certificate regarding the reimbursement of antidumping duties prior to liquidation of the relevant entries during these review periods. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305. Timely notification of the return or destruction of APO materials or conversion to judicial protective order is hereby requested. Failure to comply with the regulations and the terms of an APO is a sanctionable violation.

We are issuing and publishing these determinations and notice in accordance with sections 751(a)(1) and 777(i) of the Act and 19 CFR 351.210(c).

Dated: July 5, 20002.
Faryar Shirzad,
Assistant Secretary for Import Administration.

Appendix

Comments and Responses

1. Facts Available

2. CEP Profit

3. Price Adjustments

A. Inventory Carrying Costs

B. Commissions

C. Bank Charges

D. Other Direct Selling Expenses

E. Other

4. Resellers

5. Level of Trade

6. Arm's-Length Test

7. Prototypes and Sales Outside the Ordinary Course of Trade

8. Further Manufacturing

9. Cost of Production and Constructed Value

A. Profit for Constructed Value

B. Affiliated-Party Inputs

C. When to Use CV

10. Packing and Movement Expenses

11. Miscellaneous

A. Clerical Errors

B. Scope

C. Other

[FR Doc. 01-17486 Filed 7-11-01; 8:45 am]

BILLING CODE 3510-DS-P